DEPARTMENT OF COMMERCE

National Oceanic and Atmospheric Administration

[I.D. 012103C]

Proposed Information Collection; Comment Request; Northeast Region Multispecies Party/Charterboat Closed Area Exemption Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 25, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Thomas Warren at 978-281-9250, or to Thomas.Warren@noaa.gov.

SUPPLEMENTARY INFORMATION:

I. Abstract

Northeast multispecies party and charter vessels must obtain a letter of authorization from NOAA in order to fish for multispecies in certain areas of the Gulf of Maine closed to commercial fishing (Nantucket Lightship Area Closure, Rolling Closures, Cashes Ledge Area Closure, and Western Gulf of Maine Area Closure). Because party or charter vessels may hold commercial fishing permits, the authorization program allows NOAA to enforce closed area requirements and ensure that fish harvested under recreational rules are not sold by party and charter vessels.

II. Method of Collection

Requests are made by telephone or in person.

III. Data

OMB Number: 0648-0412.

Form Number: None.

Type of Review: Regular submission.

Affected Public: Business or other for-profit organizations.

Estimated Number of Respondents: 528.

Estimated Time Per Response: 2 minutes.

Estimated Total Annual Burden Hours: 18.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 16, 2003.
Gwellnar Banks,
Management Analyst, Office of the Chief Information Officer.

[FR Doc. 03-1648 Filed 1-23-03; 8:45 am]

BILLING CODE 3510-22-S